COMMISSION ON CIVIL RIGHTS

Notice of Public Meeting of the Pennsylvania Advisory Committee

AGENCY: Commission on Civil Rights.

ACTION: Announcement of public meeting school discipline and school-to-prison pipeline in PA.

SUMMARY: Notice is hereby given, pursuant to the provisions of the rules and regulations of the U.S. Commission on Civil Rights (Commission), and the Federal Advisory Committee Act (FACA) that a meeting of the Pennsylvania Advisory Committee to the Commission will convene in-person and via conference call at 9:00 a.m. to 5:00 p.m. (EST) on Thursday, November 21, 2019. The purpose of the briefing is for the Committee to receive testimony regarding disparate discipline and the school-to-prison pipeline in Pennsylvania.

DATES: Thursday, November 21, 2019, at 9:00 a.m. (EDT).

ADDRESSES: Temple University Center City, 1515 Market Street, Room 222, Philadelphia, PA 19202.

Public Call-In Information: Conference call-in number: 800-353-6461 and conference call ID number: 6813288.

FOR FURTHER INFORMATION CONTACT: Ivy Davis at ero@usccr.gov or by phone at 202-376-7533.

SUPPLEMENTARY INFORMATION: Interested members of the public may listen to the discussion by calling the following toll-free conference call-in number: 800-353-6461 and conference call ID number: 6813288. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1-800-877-8339 and providing the operator with the toll-free conference call-in number: 800-353-6461 and conference call ID number: 6813288.

Individuals attending the briefing in-person and requiring accommodations must contact Corrine Sanders 15 business days before the scheduled date by phone (202-768-54740) or by email (csanders@usccr.gov).

Members of the public are invited to make statements during the Public Comments section of the meeting—not to exceed five minutes—or to submit written comments. The comments must be received in the regional office approximately 30 days after the scheduled meeting. Written comments may be mailed to the Eastern Regional Office, U.S. Commission on Civil Rights, 1331 Pennsylvania Avenue, Suite 1150, Washington, DC 20425, or emailed to Corrine Sanders at ero@usccr.gov. Persons who desire additional information may phone the Eastern Regional Office at (202) 376-7533.

Records and documents discussed during the meeting will be available for public viewing as they become available at: https://www.facadatabase.gov/FACA/FACAPublicViewCommitteeDetails?id=a10t0000001gzjZAAQ; click the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda

Thursday, November 21, 2019

Opening Remarks and Introductions (9:00 a.m.-9:15 a.m.)

Panel 1: (9:15 a.m.-10:45 a.m.)

Panel 2: (10:45 a.m.-12:15 p.m.)

Lunch break: (12:15 p.m.-1:00 p.m.)

Panel 3: (1:00 p.m.-2:30 p.m.)

Panel 4: (2:30 p.m.-4:00 p.m.)

Public Comments: (4:00 p.m.-5:00 p.m.)

Adjourn

Dated: October 21, 2019.
David Mussatt,
Supervisory Chief, Regional Programs Unit.

[FR Doc. 2019-23234 Filed 10-24-19; 8:45 am]

BILLING CODE P